DEPARTMENT OF HOMELAND SECURITY

Federal Emergency Management Agency

[Docket ID FEMA-2010-0069]

Agency Information Collection Activities: Proposed Collection; Comment Request, OMB No. 1660-0010; Implementation of Coastal Barrier Resources Act

AGENCY: Federal Emergency Management Agency, DHS.

ACTION: Notice; 60-day notice and request for comments; extension, without change, of a currently approved information collection; OMB No. 1660-0010, Form Number(s): None.

SUMMARY: The Federal Emergency Management Agency, as part of its continuing effort to reduce paperwork and respondent burden, invites the general public and other Federal agencies to take this opportunity to comment on a proposed extension, without change, of a currently approved information collection. In accordance with the Paperwork Reduction Act of 1995, this notice seeks comments concerning applications for National Flood Insurance Program insurance for buildings located in Coastal Barrier Resources System communities.

DATES: Comments must be submitted on or before March 28, 2011.

ADDRESSES: To avoid duplicate submissions to the docket, please use only one of the following means to submit comments:

(1) Online. Submit comments at http://www.regulations.gov under Docket ID FEMA-2010-0069. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2010-0069 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Mary Chang, Insurance Examiner, Risk Insurance Division, Mitigation Directorate, 202-212-4712 for additional information. You may contact the Records Management Division for copies of the proposed collection of information at facsimile number (202) 646-3347 or e-mail address: FEMA-Information-Collections-Management@dhs.gov.

SUPPLEMENTARY INFORMATION: The Coastal Barrier Resources Act (16 U.S.C. 3501, et seq.; Pub. L. 97-348) and the Coastal Barrier Improvement Act of 1990 (Pub. L. 101- 591) are Federal laws that were enacted on October 18, 1982, and November 16, 1990, respectively, as part of a Department of the Interior (DOI) initiative to preserve the ecological integrity of areas DOI designates as coastal barriers and otherwise protected areas. The laws provide this protection by prohibiting all Federal expenditures or financial assistance including flood insurance for residential or commercial development in areas identified with the system. When an application for flood insurance is submitted for buildings located in Coastal Barrier Resources System (CBRS) communities, documentation must be submitted as evidence of eligibility. Part 71 of 44 CFR implements section 11 of the Coastal Barrier Resources Act and section 9 of the Coastal Barrier Improvement Act of 1990, as those Acts amend the National Flood Insurance Act of 1968 (42 U.S.C. 4001, et seq.). The documentation required in 44 CFR 71.4 is provided to FEMA for a determination that a building which is located on a designated coastal barrier and for which an application for flood insurance is being made, is neither new construction nor a substantial improvement, and therefore, is eligible for National Flood Insurance Program (NFIP) coverage. If the information is not collected, NFIP policies might be provided for buildings, which are legally ineligible for it, thus exposing the Federal Government to an insurance liability Congress chose to limit.

Collection of Information

Title: Implementation of Coastal Barrier Resources Act.

Type of Information Collection: Extension, without change, of a currently approved information collection.

OMB Number: 1660-0010.

Form Titles and Numbers: No forms.

Abstract: When an application for flood insurance is submitted for buildings located in CBRS communities, one of the following types of documentation must be submitted as evidence of eligibility: (a) Certification from a community official stating the building is not located in a designated CBRS area; (b) A legally valid building permit or certification from a community official stating that the start date of a building's construction preceded the date that the community was identified in the CBRS; or (c) Certification from the governmental body overseeing the area indicating that the building is used in a manner consistent with the purpose for which the area is protected.

Affected Public: Individuals or households; Businesses or other for-profits; Not-for-profit institutions; Farms; Federal Government; and State, local or Tribal governments.

Estimated Total Annual Burden Hours: 672.5 burden hours.

Annual Hour Burden
Data collection activity/instrument | No. of respondents: (A) | Frequency of responses: (B) | Hour burden per response: (C) | Annual responses: (D) = (AxB) | Total annual burden hours: (CxD)
—FEMA Flood Insurance Rate Map | 2690 | 1 | .25 | 2690 | 672.5
—Legally Valid Building Permit
—Written and Signed Statement from a Community Official
TOTAL | 2690 | 1 | .25 | 2690 | 672.5

Estimated Cost: The estimate annual operations and maintenance costs for technical services is $2690.00. There are no annual start-up or capital costs.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: January 5, 2011.
Lesia M. Banks,
Director, Records Management Division, Mission Support Bureau, Federal Emergency Management Agency, Department of Homeland Security.

[FR Doc. 2011-1591 Filed 1-25-11; 8:45 am]

BILLING CODE 9110-11-P